DEPARTMENT OF AGRICULTURE

Submission for OMB Review; Comment Request

March 2, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by April 6, 2015 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Colony Loss Surveys.

OMB Control Number: 0535-NEW.

Summary of Collection: The primary objectives of the National Agricultural Statistics Service (NASS) are to prepare and issue official State and national estimates of crop and livestock production, disposition and prices, economic statistics, and environmental statistics related to agriculture and to conduct the Census of Agriculture and its follow-on surveys. Pollinators (honeybees) are vital to the agricultural industry for producing food for the world's population. Ad hoc surveys showed a dramatic rise in the number of disappearances of honeybee colonies in North America in late 2006. The collapse or decline of honeybee colonies is significant economically because many agricultural crops worldwide are pollinated by European honeybees. General authority for these data collection activities is granted under U.S.C. Title 7, Section 2204.

Need and Use of the Information: To collect critical information NASS will use two surveys which will complement its existing Bee and Honey Collection (0535-0153) that focuses on bee keepers with 5 or more colonies. The Colony Loss Quarterly Survey will be administered quarterly to a subsample of bee keepers responding to the annual Bee and Honey Inquiry. The Colony Loss Annual Survey will be administered to bee keepers with fewer than 5 colonies. The data collected will include state of colony residence, the commercial movement of colonies between states, newly added or replacement colonies, colony losses, and presence of colony stress factors, such as pests or parasites.

Description of Respondents: Farmers and Beekeepers.

Number of Respondents: 23,300.

Frequency of Responses: Reporting: Quarterly; One time.

Total Burden Hours: 8,353.

Charlene Parker,
Departmental Information Collection Clearance Officer.

[FR Doc. 2015-05263 Filed 3-5-15; 8:45 am]

BILLING CODE 3410-20-P